NUCLEAR REGULATORY COMMISSION

[NRC-2020-0183]

Fire Protection Program for Nuclear Power Plants During Decommissioning

AGENCY: Nuclear Regulatory Commission.

ACTION: Regulatory guide; issuance.

SUMMARY: The U.S. Nuclear Regulatory Commission (NRC) is issuing Revision 1 to Regulatory Guide (RG) 1.191, “Fire Protection Program for Nuclear Power Plants During Decommissioning.” Revision 1 of RG 1.191 addresses new information identified since Revision 0 of this guide was issued. The guidance in Revision 0 of the RG does not include guidance for plants that have transitioned to the National Fire Protection Association (NFPA) Standard 805, “Performance-Based Standard for Fire Protection for Light Water Reactor Electric Generating Plants,” 2001 Edition.

DATES: Revision 1 to RG 1.191 is available on January 12, 2021.

ADDRESSES: Please refer to Docket ID NRC-2020-0183 when contacting the NRC about the availability of information regarding this document. You may obtain publicly available information related to this document using any of the following methods:

• Federal Rulemaking website: Go to https://www.regulations.gov and search for Docket ID NRC-2020-0183. Address questions about Docket IDs in Regulations.gov to Jennifer Borges; telephone: 301-287-9127; email: Jennifer.Borges@nrc.gov. For technical questions, contact the individuals listed in the FOR FURTHER INFORMATION CONTACT section of this document.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to pdr.resource@nrc.gov.

• Attention: The PDR, where you may examine, and order copies of public documents is currently closed. You may submit your request to the PDR via email at pdr.resource@nrc.gov or call 1-800-397-4209 or 301-415-4737, between 8:00 a.m. and 4:00 p.m. (EST), Monday through Friday, except Federal holidays.

Revision 1 to RG 1.191 and the regulatory analysis may be found in ADAMS under Accession Nos. ML20287A199 and ML20078K925, respectively.

Regulatory guides are not copyrighted, and NRC approval is not required to reproduce them.

FOR FURTHER INFORMATION CONTACT: Naeem Iqbal, Office of Nuclear Reactor Regulation, telephone: 301-415-3346, email: Naeem.Iqbal@nrc.gov, and Harriet Karagiannis, Office of Nuclear Regulatory Research, telephone: 301-415-3346, email: Harriet.Karagiannis@nrc.gov. Both are staff of the U.S. Nuclear Regulatory Commission, Washington, DC 20555-0001.

SUPPLEMENTARY INFORMATION:

I. Discussion

The NRC is issuing a revision to an existing guide in the NRC's “Regulatory Guide” series. This series was developed to describe and make available to the public information regarding methods that are acceptable to the NRC staff for implementing specific parts of the agency's regulations, techniques that the NRC staff uses in evaluating specific issues or postulated events, and data that the NRC staff needs in its review of applications for permits and licenses.

Revision 1 of RG 1.191 was issued with a temporary identification of Draft Regulatory Guide, DG-1370. It addressed new information identified since Revision 0 of this guide was issued. The guidance in Revision 0 of the RG does not include guidance for plants that have transitioned to the NFPA 805, 2001 Edition.

II. Additional Information

The NRC published a notice of the availability of DG-1370 (ADAMS Accession No. ML20078K920), in the Federal Register on August 11, 2020 (85 FR 48573), for a 60-day public comment period. The public comment period closed on October 13, 2020. Public comments on DG-1370 and the staff responses to the public comments are available in ADAMS under Accession No. ML20287A198.

III. Congressional Review Act

This RG is a rule as defined in the Congressional Review Act (5 U.S.C. 801-808). However, the Office of Management and Budget has not found it to be a major rule as defined in the Congressional Review Act.

IV. Backfitting, Forward Fitting, and Issue Finality

Revision 1 of RG 1.191 describes methods acceptable to the NRC staff for complying with the NRC's regulations for fire protection programs for licensees that have certified that their plants have permanently ceased operations and that the fuel has been permanently removed from the reactor vessels.

The staff does not, at this time, intend to impose the positions represented in the RG in a manner that would constitute backfitting or affect the issue finality of a part 52 of title 10 of the Code of Federal Regulations approval. If, in the future, the staff seeks to impose a position in the RG in a manner that constitutes backfitting or does not provide issue finality as described in the applicable issue finality provision, then the staff would need to address the backfit rule or the criteria for avoiding issue finality as described in the applicable issue finality provision.

The staff does not, at this time, intend to impose the positions represented in the RG in a manner that would constitute forward fitting. If, in the future, the staff seeks to impose a position in the RG in a manner that constitutes forward fitting, then the staff would need to address the forward fitting criteria in Management Directive 8.4, “Management of Backfitting, Forward Fitting, Issue Finality, and Information Requests” (ADAMS Accession No. ML18093B087).

Dated: January 6, 2021.
For the Nuclear Regulatory Commission.
Meraj Rahimi,
Chief, Regulatory Guidance and Generic Issues Branch, Division of Engineering, Office of Nuclear Regulatory Research.

[FR Doc. 2021-00334 Filed 1-11-21; 8:45 am]

BILLING CODE 7590-01-P